DEPARTMENT OF STATE

[Public Notice 3246]

Culturally Significant Objects Imported for Exhibition Determinations: “Golden Years of Faberge: Objects and Drawings From the Wigstrom Workshop”

DEPARTMENT: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681 et seq.), Delegation of Authority No. 234 of October 1, 1999 (64 FR 56014), and Delegation of Authority No. 236 of October 19, 1999, as amended by Delegation of Authority No. 236-1 of November 9, 1999, I hereby determine that the objects to be included in the exhibition “Golden Years of Faberge: Objects and Drawings from the Wigstrom Workshop,” imported from abroad for the temporary exhibition without profit within the United States, are of cultural significance. These objects are imported pursuant to loan agreements with foreign lenders. I also determine that the exhibition or display of the exhibit objects at the A La Vieille Russie Gallery, New York, NY from on or about April 12, 2000 to on or about May 19, 2000, and at the New Orleans Museum of Art, from on or about June 17, 2000 to on or about August 20, 2000 is in the national interest. Public Notice of these determinations is ordered to be published in the Federal Register.

FOR FURTHER INFORMATION CONTACT: For further information, including a list of exhibit objects, contact Paul Manning, Attorney-Adviser, Office of the Legal Adviser, U.S. Department of State (telephone: 202/619-5997). The address is U.S. Department of State, SA-44, 301 4th Street, S.W., Room 700, Washington, D.C. 20547-0001.

Dated: March 6, 2000.
William B. Bader,
Assistant Secretary for Educational and Cultural Affairs, United States Department of State.

[FR Doc. 00-5923 Filed 3-9-00; 8:45 am]

BILLING CODE 4710-08-P